DEPARTMENT OF COMMERCE

National Oceanic and Atmospheric Administration

RIN 0648-XZ21

Notice of Intent To Prepare a Programmatic Environmental Impact Statement on Implementing Recovery Actions for Hawaiian Monk Seals

AGENCY: National Marine Fisheries Service (NMFS), National Oceanic and Atmospheric Administration (NOAA), U.S. Department of Commerce.

ACTION: Notice of Intent to prepare a Programmatic Environmental Impact Statement; extension of public scoping period; request for comments.

SUMMARY: On October 1, 2010, NMFS published a Notice of Intent to prepare a Programmatic Environmental Impact Statement (PEIS) on Recovery Actions for Hawaiian monk seals (75 FR 60721). Public comments were due by November 15, 2010. NMFS has decided to allow additional time for submission of public comments on this action.

DATES: The public comment period for this action has been extended 15 days. Written comments must be received or postmarked by November 30, 2010.

ADDRESSES: Comments on the Notice of Intent and the scoping process for this action may be submitted by:

• Mail: National Marine Fisheries Service, Pacific Islands Regional Office, Hawaiian Monk Seal Recovery Actions PEIS, 1601 Kapiolani Blvd., Suite 1110, Honolulu, HI 96814; or

• E-mail: monkseal@noaa.gov.

To be included on a mailing list and receive newsletters and copies of the Draft and Final PEIS, please send your mailing address and/or e-mail address to Jeff Walters, Hawaiian Monk Seal Recovery Coordinator, Protected Resources Division, NOAA NMFS Pacific Islands Regional Office, 1601 Kapiolani Blvd., Suite 1110, Honolulu, HI 96814, or via the following e-mail address: monkseal@noaa.gov.

FOR FURTHER INFORMATION CONTACT: Jeff Walters, NMFS Pacific Islands Regional Office, 1601 Kapiolani Blvd., Suite 1110, Honolulu, HI 96814, or monkseal@noaa.gov.

SUPPLEMENTARY INFORMATION: The Notice of Intent, published on October 1, 2010, is available upon request and can be found on the following Web site: http://www.nmfs.noaa.gov/pr/permits/eis/hawaiianmonkseal.htm.

The PEIS will assess the direct, indirect, and cumulative effects of implementing the alternative approaches for funding, undertaking, and permitting the management, research and enhancement activities on Hawaiian monk seals as well as other components of the marine ecosystem and human environment. Anyone having relevant information they believe NMFS should consider in its analysis should provide a description of that information along with complete citations for supporting documents.

NMFS has provided a potential proposed action and several other alternative actions in the October 1, 2010 Notice of Intent. The final scope and structure of the alternatives, to be determined at a later date, will reflect the combined input from the public, research institutions, affected State and Federal agencies, and NMFS administrative and research offices. A principal objective of the scoping and public involvement process is to determine a range of reasonable management alternatives that will identify critical issues, and provide a clear basis for distinguishing among those alternatives and selecting a preferred alternative.

Comments will be accepted during the scoping period through November 30, 2010. We request that you include in your comments: (1) Your name, address, and affiliation (if any); and (2) Any relevant background documents to support your comments.

Dated: November 5, 2010.
Samuel D. Rauch III,
Deputy Assistant Administrator for Regulatory Programs, National Marine Fisheries Service.

[FR Doc. 2010-28517 Filed 11-10-10; 8:45 am]

BILLING CODE 3510-22-P